DEPARTMENT OF STATE

[Public Notice 4610]

Shipping Coordinating Committee; Notice for Change of Meeting

This provides notice of a change in the date, time and location of the Shipping Coordinating Committee (SHC) announced on February 17, 2004, through meeting notice 4603. The SHC will now conduct an open meeting at 10 a.m. on Friday, March 5, 2004, in Room 1303 of the United States Coast Guard Headquarters Building, 2100 Second Street, SW., Washington, DC 20593-0001. The primary purpose of the meeting remains to prepare for the 12th session of the International Maritime Organization (IMO) Sub-Committee on Flag State Implementation to be held at IMO Headquarters in London, England from March 15th to 19th.

The primary matters to be considered include:

• Measures to enhance maritime security;

• Responsibilities of governments and measures to encourage flag State compliance;

• PSC on seafarer's working hours;

• Comprehensive analysis of difficulties encountered in the implementation of IMO instruments;

• Regional cooperation on port State control;

• Reporting procedures on port State control detentions and analysis and evaluation of reports;

• Mandatory reports under MARPOL 73/78;

• Casualty statistics and investigations;

• PSC officer training for bulk carriers;

• Development of provisions on transfer of class;

• Review of the Survey Guidelines under the HSSC (resolution A.746(18));

• Marking the ship's plans, manuals and other documents with the IMO ship identification number;

• Illegal, unregulated and unreported (IUU) fishing and implementation of resolution A.925(22);

• Consideration of IACS unified interpretations;

• Unique IDs for companies and registered owners;

• Review of reporting requirements for reception facilities.

Members of the public may attend this meeting up to the seating capacity of the room. Interested persons may seek information by writing to Commander Linda Fagan, Commandant (G-MOC), U.S. Coast Guard Headquarters, 2100 Second Street, SW., Room 1116, Washington, DC 20593-0001 or by calling (202) 267-2978.

Dated: February 24, 2004.
Steven Poulin,
Executive Secretary, Shipping Coordinating Committee, Department of State.

[FR Doc. 04-4605 Filed 3-1-04; 8:45 am]

BILLING CODE 4710-07-P